DEPARTMENT OF JUSTICE

Notice of Lodging of Consent Decree Under the Comprehensive Environmental Response, Compensation and Liability Act (CERCLA)

Under section 122(d)(2) of CERCLA, 42 U.S.C. 9622(d)(2), and 28 CFR 50.7, notice is hereby given that on May 26, 2004, a proposed Consent Decree in United States v. Ralph Bello, et. al., Civil Action No. 3:01 CV 1568 (SRU), was lodged with the United States District court for the District of Connecticut.

In this action, the United States sought recovery of response costs incurred by the United States Environmental Protection Agency in conducting a soil cleanup removal action at the National Oil Service Superfund Site in West Haven, Connecticut. The United States filed its complaint pursuant to section 107(a) of the Comprehensive Environmental Response, Compensation and Liability Act (“CERCLA”), 42 U.S.C. 9607(a), seeking recovery of response costs incurred at the Site. The complaint named five defendants, four of which are participating in the proposed settlement: Ralph Bello, Vera Bello, Vera Associates Limited Partnership, and the real property address at 16-20 Elm Street, West Haven, Connecticut (collectively “the Owner/Operator Defendants”). The proposed Consent Decree resolves the United States' cost recovery claims against each of the Owner/Operator Defendants or Settling Defendants. Under the proposed Decree, the Settling Defendants collectively agree to pay $150,000 in partial reimbursement of the United States' response costs.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Ralph Bello, et.al., D.J. Ref. 90-11-3-07333/1.

The proposed Consent Decree may be examined at the Office of the United States Attorney, Connecticut Financial Center, New Haven, CT, and at U.S. EPA Region 1, One Congress Street, Boston, MA. During the public comment period, the Consent Decree may also be examined on the following Department of Justice Web-site, http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. For a copy of the proposed Consent Decree including the signature pages and attachments, please enclose a check in the amount of $4.25 (25 cents per page reproduction cost) payable to “U.S. Treasury.”

Ronald Gluck,
Assistant Chief, Environmental Enforcement Section, Environment and Natural Resources Division.

[FR Doc. 04-12621 Filed 6-3-04; 8:45 am]

BILLING CODE 4410-15-M